GENERAL SERVICES ADMINISTRATION

41 CFR Part 102-33

[FMR Change-2014-06; FMR Case 2012-102-6; Docket No. 2012-0016, Sequence 1]

RIN 3090-AJ33

Federal Management Regulation; Management of Government Aircraft

AGENCY: Office of Government-wide Policy (OGP), General Services Administration (GSA).

ACTION: Final rule.

SUMMARY: The General Services Administration (GSA), Office of Government-wide Policy (OGP) provides management policies to Federal civilian agencies that manage, acquire, use, and dispose of aircraft to accomplish their missions. OGP's regular review process revealed that the aviation policies found in the Federal Management Regulation (FMR) need to be substantially revised and updated. Consequently, OGP is revising its management of Government aircraft rules in their entirety in order to foster safe, efficient, and effective aviation programs within the U.S. Government. The member agencies of the Interagency Committee for Aviation Policy (ICAP) have participated in the formation of this final rule.

This case is included in GSA's retrospective review of existing regulations under Executive Order 13563. Additional information is located in GSA's retrospective review available at: www.gsa.gov/improvingregulations.

DATES: Effective date: December 23, 2014.

FOR FURTHER INFORMATION CONTACT: For clarification of content, contact Mr. Robert Galloway, Director Aviation Policy, Office of Asset and Transportation Management, Office of Government-wide Policy, by phone at 202-997-7274 or through email at robert.galloway@gsa.gov. Please cite FMR case 2012-102-6.

SUPPLEMENTARY INFORMATION:

A. Background

The last major review and revision of policy for the management of Government aircraft occurred when GSA's Office of Government-wide Policy (OGP) moved that policy from part 101-37 of the Federal Property Management Regulations (FPMR) (41 CFR part 101-37) to part 102-33 of the Federal Management Regulation (FMR) (41 CFR part 102-33, “Management of Government Aircraft”). The final rule implementing that move was published in the Federal Register at 67 FR 67743 on November 6, 2002. A minor correction was published in the Federal Register at 67 FR 70480 on November 22, 2002, but no further amendments have since been made to FMR part 102-33.

OGP initiated a review of the aviation policies to address current Government aviation needs, to determine what new technologies and best practices fit well into the Federal setting, and to adapt to changes in the aviation industry. In addition, OGP worked with the ICAP to identify needed revisions and updates. The ICAP membership identified a multitude of aviation policies that were obsolete, required editorial corrections, or needed to be removed or updated. GSA received substantive comments from two agencies regarding the use of the term “forfeiture/seizure.” In response, GSA eliminated the term “seizure” as a means of acquiring an aircraft, while the term “forfeiture” is used in the amended phrase, “. . . transfer of previously forfeited aircraft (section 102-33.60).” An additional comment was received regarding the recommended date for the implementation of a Safety Management System. In response, GSA modified the recommended implementation date (section 102-33.180).

Since this part was revised in November 2002, the Federal Aviation Administration (FAA) released both new and revised versions of the Advisory Circulars with information that significantly affects the Federal aviation community. Some of the topics covered by these Advisory Circulars include public aircraft, safety management systems, and unmanned aircraft systems. Finally, OGP finalized a revision to FMR part 102-39 (41 CFR part 102-39, “Replacement of Personal Property Pursuant to the Exchange/Sale Authority”) that removed aircraft and aircraft parts from the exchange/sale prohibited list as long as such transactions are conducted in accordance with provisions found at FMR part 102-33.

B. Changes

This final rule revises current FMR part 102-33 (41 CFR part 102-33) in its entirety. The revision includes updating and correcting citations and addresses as well as editorial changes. Changes that this final rule makes to the affected FMR section(s) identified below include:

1. Adding a new section to clarify that the use of pronouns “we,” “you,” “your,” and “our” throughout part 102-33 refers to agency aviation managers and also executive agencies (section 102-33.6);

2. Adding, revising, and deleting a number of terms as defined and used in this part (section 102-33.20).

3. Adding suggested experience for Senior Aviation Management Officials (SAMO) (section 102-33.25);

4. Revising requirements for agencies that only hire aircraft occasionally or for a specific flight (section 102-33.25);

5. Revising GSA's responsibilities for Federal aviation management and adding new responsibilities (section 102-33.40);

6. Removing current section 102-33.45. Contents were added to the definitions in section 102-33.20;

7. Clarifying that aircraft selection is based on need, a strong business case, and life-cycle cost analysis (section 102-33.50);

8. Clarifying where guidance for aircraft acquisition planning can be found (section 102-33.75);

9. Removing current section 102-33.85;

10. Revising agencies' responsibilities when acquiring aircraft parts (section 102-33.110);

11. Clarifying what flight program standards are (section 102-33.140);

12. Clarifying why flight program standards must be established (section 102-33.145);

13. Adding to the procedures and policies required to establish flight program standards (section 102-33.155);

14. Adding administrative personnel to those considered to be flight program personnel (section 102-33.160);

15. Moving operational related procedures from section 102-33.160(c) to section 102-33.165(e);

16. Moving maintenance related procedures from section 102-33.160(d) to section 102-33.170(a);

17. Removing the “Disclosure Statement for Crewmembers and Qualified Non-Crewmembers Flying on Board Government Aircraft Operated as Public Aircraft,” currently in section 102-33.165(e), and adding a revised version as Appendix A to part 102-33;

18. Adding “risk assessment” as a flight program operational standard (section 102-33.165);

19. Revising who may be considered flight program personnel with regard to training requirements (section 102-33.175);

20. Adding a recommendation that agencies implement a Safety Management System (SMS) standard, including a deadline for recommended implementation of an SMS (section 102-33.180);

21. Adding security program requirements (102-33.180(g));

22. Revising required standards for responding to accidents and incidents (section 102-33.185);

23. Revising how to account for aircraft operation and ownership costs (section 102-33.190);

24. Clarifying that exchange/sale may be considered before disposing of aircraft and aircraft parts, and deleting the requirement to obtain a waiver from GSA (section 102-33.240);

25. Clarifying that operational and non-operational aircraft may be reported as excess or replaced, and deleting the requirement to obtain a waiver from GSA (section 102-33.245);

26. Clarifying that an agency may declassify aircraft (section 102-33.250);

27. Revising the process for reporting excess aircraft (section 102-33.270);

28. Revising what should be considered for the exchange/sale of aircraft, and deleting the requirement to obtain a waiver from GSA (section 102-33.275);

29. Combining the disclaimers found in sections 102-33.285 and 102-33.290 into one section, adding new requirements, and removing section 102-33.290 (section 102-33.285);

30. Revising what needs to be considered before the exchange/sale of aircraft parts (section 102-33.350);

31. Revising the waiver in section 102-33.360;

32. Revising requirements for disposing of military Flight Safety Critical Aircraft Parts (FSCAP) and/or life-limited parts (section 102-33.370);

33. Revising what aircraft information must be reported to GSA, including Unmanned Aircraft Systems, and removing the reference to senior Federal official travel as this is addressed in the Federal Travel Regulation (section 102-33.390);

34. Revising what data are considered Federal Inventory Data and adding that Unmanned Aircraft Systems are included (section 102-33.410);

35. Adding Unmanned Aircraft Systems' cost and utilization data to the types of data reportable to GSA (section 102-33.425);

36. Adding new requirements for performance indicators (sections 102-33.465 through 102-33.475); and

37. Updating and correcting citations and addresses as well as other editorial changes (entire part).

C. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993. This rule is not a major rule under 5 U.S.C. 804.

D. Regulatory Flexibility Act

This rule is not required to be published as a proposed rule. The Administrative Procedure Act, 5 U.S.C. 553(a)(2), excepts matters relating to agency management or personnel or to public property. This FMR final rule concerns matters relating to agency management or personnel or to public property and is not required to be published in the Federal Register for comment. Therefore, the Regulatory Flexibility Act does not apply.

E. Paperwork Reduction Act

The Paperwork Reduction Act does not apply because the changes to the FMR do not impose information collection requirements that require the approval of the Office of Management and Budget under 44 U.S.C. 3501, et seq.

F. Small Business Regulatory Enforcement Fairness Act

This final rule is exempt from Congressional review under 5 U.S.C. 801 since it relates to agency management or personnel or to public property.

List of Subjects in 41 CFR Part 102-33

Accounting, Aircraft, Aviation safety. Government property management.

Dated: December 5, 2014.
Dan Tangherlini,
Administrator of General Services.

For the reasons set forth in the preamble, GSA revises 41 CFR part 102-33 to read as follows:

PART 102-33—MANAGEMENT OF GOVERNMENT AIRCRAFT

Subpart A—How These Rules Apply
General
Sec.
102-33.5 To whom do these rules apply?
102-33.6 How are the terms “we,” “you,” “your,” and “our” used in this part?
102-33.10 May we request approval to deviate from these rules?
102-33.15 How does this part relate to Title 14 of the Code of Federal Regulations?
102-33.20 What definitions apply to this part?
Responsibilities
102-33.25 What are our responsibilities under this part?
102-33.30 What are the duties of an agency's Senior Aviation Management Official (SAMO)?
102-33.35 How can we get help in carrying out our responsibilities?
102-33.40 What are some of GSA's responsibilities for Federal aviation management?
Subpart B—Acquiring Government Aircraft and Aircraft Parts
Overview
102-33.50 Under what circumstances may we acquire Government aircraft?
102-33.55 Are there restrictions on acquiring Government aircraft?
102-33.60 What methods may we use to acquire Government aircraft?
102-33.65 What is the process for acquiring Government aircraft?
Planning to Acquire Government Aircraft
102-33.70 What directives must we follow when planning to acquire Government aircraft?
102-33.75 What other guidance is available to us in planning to acquire Government aircraft?
OMB Circular A-76
102-33.80 Must we comply with OMB Circular A-76 before we acquire Government aircraft?
The Process for Budgeting To Acquire Government Aircraft
102-33.90 What is the process for budgeting to acquire a Federal aircraft (including a Federal aircraft transferred from another executive agency)?
102-33.95 What is the process for budgeting to acquire Commercial Aviation Services (CAS)?
Contracting to Acquire Government Aircraft
102-33.100 What are our responsibilities when contracting to purchase or capital lease a Federal aircraft or to award a CAS contract?
102-33.105 What minimum requirements must we put into our CAS contracts?
Acquiring Aircraft Parts
102-33.110 What are our responsibilities when acquiring aircraft parts?
102-33.115 Are there requirements for acquiring military Flight Safety Critical Aircraft Parts (FSCAP)?
102-33.120 Are there requirements for acquiring life-limited parts?
Subpart C—Managing Government Aircraft and Aircraft Parts
Overview
102-33.125 If we use Federal aircraft, what are our management responsibilities?
102-33.130 If we hire CAS, what are our management responsibilities?
102-33.135 Do we have to follow the direction in OMB Circular A-123, “Management's Accountability and Control,” for establishing management controls for our aviation program?
Establishing Flight Program Standards
102-33.140 What are Flight Program Standards?
102-33.145 Why must we establish Flight Program Standards?
102-33.150 What Federally-funded aviation activities of executive agencies are exempt from establishing Flight Program Standards under this part?
102-33.155 How must we establish Flight Program Standards?
Management/Administration
102-33.160 What standards must we establish or require (contractually, where applicable) for management/administration of our flight program?
Operations
102-33.165 What standards must we establish or require (contractually, where applicable) for operation of our flight program?
Maintenance
102-33.170 What standards must we establish or require (contractually, where applicable) for maintenance of our Government aircraft?
Training
102-33.175 What standards must we establish or require (contractually, where applicable) to train our flight program personnel?
Safety
102-33.180 What standards should we establish or require (contractually, where applicable) for aviation safety management?
102-33.185 What standards should we establish or require (contractually, where applicable) for responding to aircraft accidents and incidents?
Accounting for the Costs of Government Aircraft
102-33.190 What are the aircraft operations and ownership costs for which we must account?
102-33.195 Do we need an automated system to account for aircraft costs?
102-33.200 Must we periodically justify owning and operating Federal aircraft?
102-33.205 When we use our aircraft to support other executive agencies, must we recover the operating costs?
Accounting for the Use of Government Aircraft
102-33.210 How do we account for the use of our Government aircraft?
102-33.215 May we use Government aircraft to carry passengers?
102-33.220 What are the responsibilities of our aviation program in justifying the use of a Government aircraft to transport passengers?
Managing Aircraft Parts
102-33.225 How must we manage aircraft parts?
102-33.230 May we use military FSCAP on non-military FAA-type certificated Government aircraft?
102-33.235 What documentation must we maintain for life-limited parts and FSCAP?
Subpart D—Disposing or Replacing of Government Aircraft and Aircraft Parts
Overview
102-33.240 What must we consider before disposing or replacing aircraft and aircraft parts?
102-33.245 May we report as excess, or replace (i.e., by exchange/sale), both operational and non-operational aircraft?
102-33.250 May we declassify aircraft?
102-33.255 Must we document FSCAP or life-limited parts installed on aircraft that we will report as excess or replace?
102-33.260 When we report as excess, or replace, an aircraft (including a declassified aircraft), must we report the change in inventory to the Federal Aviation Interactive Reporting System (FAIRS)?
Reporting Excess Federal Aircraft
102-33.265 What must we do with aircraft that are excess to our needs?
102-33.270 What is the process for reporting an excess aircraft?
Replacing Aircraft Through Exchange/Sale
102-33.275 What should we consider before replacing our aircraft through an exchange/sale?
102-33.280 What are our options if we need a replacement aircraft?
102-33.285 Do we need to include any special disclaimers in our exchange/sale agreements for non-certificated aircraft or aircraft that we have operated as public aircraft (i.e., not in compliance with 14 CFR)?
102-33.295 May we exchange/sell an aircraft through reimbursable transfer to another executive agency or conduct a negotiated sale at fixed price to a State Agency for Surplus Property (SASP)?
Disposing of Aircraft Parts
102-33.300 What must we consider before disposing of aircraft parts?
102-33.305 May we report as excess, or replace, FSCAP and life-limited parts?
102-33.310 May we report as excess, or replace, unsalvageable aircraft parts?
102-33.315 What are the procedures for mutilating unsalvageable aircraft parts?
102-33.320 What must we do if we are unable to perform required mutilation of aircraft parts?
102-33.325 What documentation must we furnish with excess, surplus, or replaced parts when they are transferred, donated, exchanged, or sold?
Reporting Excess Aircraft Parts
102-33.330 What must we do with aircraft parts that are excess to our needs?
102-33.335 What are the receiving agency's responsibilities in the transfer of aircraft parts?
102-33.340 What are GSA's responsibilities in disposing of excess and surplus aircraft parts?
102-33.345 What are the responsibilities of a State Agency for Surplus Property (SASP) in the donation of Federal Government aircraft parts?
Replacing Aircraft Parts Through Exchange/Sale
102-33.350 What do we need to consider for an exchange/sale of our aircraft parts?
102-33.355 May we exchange/sell aircraft parts through a reimbursable transfer to another executive agency or conduct a negotiated sale at fixed price to a State Agency for Surplus Property (SASP)?
102-33.360 What is the process for exchanging/selling aircraft parts for replacement?
102-33.365 Must we report exchange/sale of parts to FAIRS?
Special Requirements for Disposing of Flight Safety Critical Aircraft Parts (FSCAP) and Life-Limited Parts
102-33.370 What must we do to dispose of military FSCAP and/or life-limited parts?
102-33.375 What is a FSCAP Criticality Code?
Subpart E—Reporting Information on Government Aircraft
Overview
102-33.380 Who must report information to GSA on Government aircraft?
102-33.385 What Federally-funded aviation activities of executive agencies are exempt from the requirement to report information to GSA on Government aircraft?
102-33.390 What information must we report on Government aircraft?
Federal Aviation Interactive Reporting System (FAIRS)
102-33.395 What is FAIRS?
102-33.400 How must we report to FAIRS?
102-33.405 When must we report to FAIRS?
Federal Inventory Data
102-33.410 What are Federal inventory data?
102-33.415 When may we declassify an aircraft and remove it from our Federal aircraft inventory?
102-33.420 How must we declassify an aircraft?
Federal Aircraft Cost and Utilization Data
102-33.425 What Federal aircraft cost and utilization data must we report?
102-33.430 Who must report Federal aircraft cost and utilization data?
Commercial Aviation Services (CAS) Cost and Utilization Data
102-33.435 What CAS cost and utilization data must we report?
102-33.440 Who must report CAS cost and utilization data?
Accident and Incident Data
102-33.445 What accident and incident data must we report?
102-33.450 How must we report accident and incident data?
Common Aviation Management Information Standard (C-AMIS)
102-33.455 What is C-AMIS?
102-33.460 What is our responsibility in relation to C-AMIS?
Performance Indicators
102-33.465 What is a performance indicator?
102-33.470 Must we develop performance indicators?
102-33.475 What are some examples of performance indicators that we can use?
Appendix A to Part 102-33—Disclosure Statement for Crewmembers and Qualified Non-Crewmembers Flying on Board Government Aircraft Operated as Public Aircraft

Authority: 40 U.S.C. 121(c); 31 U.S.C. 101 et seq.; Reorganization Plan No. 2 of 1970, 35 FR 7959, 3 CFR, 1066-1970 Comp., p. 1070; Executive Order 11541, 35 FR 10737, 3 CFR, 1966-1970 Comp., p. 939; and OMB Circular No. A-126 (Revised May 22, 1992), 57 FR 22150.

Subpart A—How These Rules Apply

General

§ 102-33.5 To whom do these rules apply?

(a) The rules in this part apply to all Federally-funded aviation activities of executive branch agencies of the U.S. Government who use Government aircraft to accomplish their official business, except for the exemptions listed in paragraph (b) of this section.

(b) The rules in this part do not apply to the following:

(1) The Armed Forces, except for:

(i) Section 102-33.25(e) and (g), which concern responsibilities related to the Interagency Committee for Aviation Policy (ICAP); and

(ii) Subpart D of this part, “Disposing of Government Aircraft and Aircraft Parts.”

(2) The President or Vice President and their offices;

(3) Aircraft when an executive agency provides Government-furnished avionics for commercially owned or privately owned aircraft for the purposes of technology demonstration or testing; and

(4) Privately owned aircraft that agency personnel use for official travel (even though such use is Federally-funded).

§ 102-33.6 How are the terms “we,” “you,” “your,” and “our” used in this part?

In this part, “we”, “you”, “your”, and “our” refer to agency aviation managers or an executive agency.

§ 102-33.10 May we request approval to deviate from these rules?

(a) You may request approval to deviate from the rules in this part. See §§ 102-2.60 through 102-2.110 of this chapter for guidance on requesting a deviation. In most cases, GSA will respond to your written request within 30 days;

(b) GSA may not grant deviations from the requirements of OMB Circular A-126, “Improving the Management of Government Aircraft;” and

(c) You should consult with GSA's Aviation Policy Division before you request a deviation.

§ 102-33.15 How does this part relate to Title 14 of the Code of Federal Regulations?

This part does not supersede any of the regulations in 14 CFR Chapter I, “Federal Aviation Administration, Department of Transportation.”

§ 102-33.20 What definitions apply to this part?

The following definitions apply to this part:

Acquire means to procure or otherwise obtain personal property, including by lease or rent.

Acquisition date means the date that the acquiring executive agency took responsibility for the aircraft, e.g., received title (through purchase, exchange, or gift), signed a bailment agreement with the Department of Defense (DOD), took physical custody, received a court order, put into operational status an aircraft that is newly manufactured by the agency, or otherwise accepted physical transfer (e.g., in the case of a borrowed aircraft).

Aircraft part means an individual component or an assembly of components that is used on aircraft.

Armed Forces mean the Army, Navy, Air Force, Marine Corps, and Coast Guard, including their regular and Reserve components and members serving without component status. For purposes of this Part, the National Guard is also included in the Armed Forces.

Aviation life support equipment (ALSE) means equipment that protects flight crewmembers and others aboard an aircraft, assisting their safe escape, survival, and recovery during an accident or other emergency.

Aviation Policy Division is a division in the Office of Asset and Transportation Management, Office of Government-wide Policy, GSA. Contact the staff via the Aircraft Management Overview page at http://www.gsa.gov/aviationpolicy.

Crewmember means a person assigned to operate or assist in operating an aircraft during flight time. Crewmembers perform duties directly related to the operation of the aircraft (e.g., as pilots, co-pilots, flight engineers, navigators) or duties assisting in operation of the aircraft (e.g., as flight directors, crew chiefs, electronics technicians, mechanics). See also the terms and definitions for “Qualified non-crewmember” and “Passenger” in this section.

Criticality code means a single digit code that DOD assigns to military Flight Safety Critical Aircraft Parts (FSCAP) (see §§ 102-33.115 and 102-33.370).

Data plate means a fireproof plate that is inscribed with certain information required by 14 CFR part 45 (or for military surplus aircraft, as required by Military Specifications), and secured to an aircraft, aircraft engine, or propeller. The information must be marked by etching, stamping, engraving, or other approved method of fireproof marking. The plate must be attached in such a manner that it is not likely to be defaced or removed during normal service or lost or destroyed in an accident. Data plates are required only on certificated aircraft. However, non-certificated aircraft may also have data plates.

Declassify means to remove a lost, destroyed, or non-operational aircraft from the Federal aircraft inventory. Agencies may declassify only non-operational aircraft that they will retain for ground use only. Agencies must declassify an aircraft following the rules in §§ 102-33.415 and 102-33.420.

Disposal date means the date that the disposing executive agency relinquishes responsibility for an aircraft, for example, when the agency transfers title in the case of an exchange/sale; returns the aircraft to the lessor or bailer; declassifies it (for FAIRS, declassification is considered a “disposal” action, even though the agency retains the property); or relinquishes custody to another agency (i.e., in the case of excess (transferred) or surplus (donated or sold) aircraft).

Donated aircraft means an aircraft disposed of as surplus by GSA through donation to a non-Federal government, a tax-exempt nonprofit entity, or other eligible recipient, following the rules in part § 102-37 (some agencies, for example DOD, may have independent donation authority.)

Exchange means to replace personal property by trade or trade-in with the supplier of the replacement property.

Exchange/sale means to exchange or sell non-excess, non-surplus personal property and apply the exchange allowance or proceeds of sale in whole or in part payment for the acquisition of similar property. See 40 U.S.C. 503.

Exclusive use means a condition under which an aircraft is operated for the sole benefit of the U.S. Government.

Executive agency means any executive department or independent establishment in the executive branch of the United States Government, including any wholly owned Government corporation. See 5 U.S.C. 105.

Federal Acquisition Service (FAS) means a component of GSA. FAS is organized by geographical regions. The FAS Property Management Division in GSA's Pacific Rim Region, 450 Golden Gate Ave., San Francisco, CA 94102-3434, has responsibility for disposing of excess and surplus aircraft.

Federal aircraft means manned or unmanned aircraft that an executive agency owns (i.e., holds title to) or borrows for any length of time. Federal aircraft include—

(1) Bailed aircraft: Federal aircraft that is owned by one executive agency, but is in the custody of and operated by another executive agency under an agreement that may or may not include cost-reimbursement. Bailments are executive agency to executive agency agreements and involve only aircraft, not services;

(2) Borrowed aircraft: Aircraft owned by a non-executive agency and provided to an executive agency for use without compensation. The executive agency operates and maintains the aircraft;

(3) Forfeited aircraft: Aircraft acquired by the Government either by summary process or by order of a court of competent jurisdiction pursuant to any law of the United States;

(4) Loaned aircraft: Federal aircraft owned by an executive agency, but in the custody of a non-executive agency under an agreement that does not include compensation; and

(5) Owned aircraft: An aircraft for which title or rights of title are vested in an executive agency.

Note to definition of Federal aircraft: When an executive agency loans or bails an aircraft that meets the criteria for Federal aircraft, the loaned or bailed aircraft is still considered a Federal aircraft in the owning agency's inventory, except when DOD is the owning agency of a bailed aircraft. In that case, the aircraft is recorded in the inventory of the bailee.

Federal Aviation Interactive Reporting System (FAIRS) is a management information system operated by GSA to collect, maintain, analyze, and report information on Federal aircraft inventories and cost and usage of Federal aircraft and CAS aircraft (and related services) (see §§ 102-33.395 through 102-33.440).

Flight Safety Critical Aircraft Part (FSCAP) means any aircraft part, assembly, or installation containing a critical characteristic whose failure, malfunction, or absence could cause a catastrophic failure resulting in loss or serious damage to the aircraft or an uncommanded engine shutdown resulting in an unsafe condition.

Full service contract means a contractual agreement through which an executive agency acquires an aircraft and related aviation services (e.g., pilot, crew, maintenance, catering) for exclusive use. Aircraft hired under full service contracts are commercial aviation services (CAS), not Federal aircraft, regardless of the length of the contract.

Government aircraft means manned or unmanned aircraft operated for the exclusive use of an executive agency. Government aircraft include—

(1) Federal aircraft (see definition for “Federal aircraft” in this section); and

(2) Aircraft hired as commercial aviation services (CAS). CAS include—

(i) Leased aircraft for exclusive use for an agreed upon period of time (The acquiring executive agency operates and maintains the aircraft);

(ii) Capital lease aircraft for which the leasing agency holds an option to take title;

(iii) Charter aircraft for hire under a contractual agreement for one-time exclusive use that specifies performance (The commercial source operates and maintains a charter aircraft);

(iv) Rental aircraft obtained commercially under an agreement in which the executive agency has exclusive use for an agreed upon period of time (The executive agency operates, but does not maintain, a rental aircraft);

(v) Contracting for full services (i.e., aircraft and related aviation services for exclusive use); or

(vi) Obtaining related aviation services (i.e., services but not aircraft) by commercial contract, except those services acquired to support a Federal aircraft.

Governmental function means a Federally-funded activity that an executive agency performs in compliance with its statutory authorities.

Intelligence community means those agencies identified in the National Security Act, 50 U.S.C. 401a(4).

Inter-service support agreement (ISSA) means any agreement between two or more executive agencies (including the Department of Defense) in which one agency consents to perform aviation support services (e.g., providing an aircraft and other aviation services or providing only services) for another agency with or without cost-reimbursement. An executive agency-to-executive agency agreement that involves only the use of an aircraft, not services, is a bailment, not an ISSA.

Life-limited part means any aircraft part that has an established replacement time, inspection interval, or other time-related procedure associated with it. For non-military parts, the FAA specifies life-limited part airworthiness limitations in 14 CFR 21.50, 23.1529, 25.1529, 27.1529, 29.1529, 31.82, 33.4, and 35.5, and on product Type Certificate Data Sheets (TCDS). Letters authorizing Technical Standards Orders (TSO) must also note or reference mandatory replacement or inspection of parts.

Military aircraft part means an aircraft part used on an aircraft that was developed by the Armed Forces (whether or not it carries an FAA airworthiness certificate).

Non-operational aircraft means a Federal aircraft that is not safe for flight and, in the owning executive agency's determination, cannot economically be made safe for flight. This definition refers to the aircraft's flight capability, not its mission-support equipment capability. An aircraft that is temporarily out of service for maintenance or repair and can economically be made safe for flight is considered an operational aircraft.

Official Government business in relation to Government aircraft—

(1) Includes, but is not limited to—

(i) Carrying crewmembers, qualified non-crewmembers, and cargo directly required for or associated with performing Governmental functions (including travel-related Governmental functions);

(ii) Carrying passengers authorized to travel on Government aircraft (see OMB Circular A-126); and

(iii) Training pilots and other aviation personnel.

(2) Does not include—

(i) Using Government aircraft for personal or political purposes, except for required use travel and space available travel as defined in OMB Circular A-126; or

(ii) Carrying passengers who are not officially authorized to travel on Government aircraft.

Operational aircraft means a Federal aircraft that is safe for flight or, in the owning executive agency's determination, can economically be made safe for flight. This definition refers to the aircraft's flight capability, not its mission-support capability. An aircraft temporarily out of service for maintenance or repair is considered an operational aircraft.

Original equipment manufacturer (OEM) means the person or company who originally designed, engineered, and manufactured, or who currently holds the data rights to manufacture, a specific aircraft or aircraft part. Parts produced under a Parts Manufacturer Approval (PMA) are not considered OEM parts, even though they can be acceptable replacement parts for OEM parts.

Passenger means a person flying onboard a Government aircraft who is officially authorized to travel and who is not a crewmember or qualified non-crewmember.

Performance indicator means a quantitative or qualitative term or value for reporting organizational activities and results, generally with respect to achieving specific goals related to outcomes, outputs, efficiency, and inputs. When applied to aircraft, performance indicators typically measure the effectiveness and efficiency of the processes involved with safely delivering aircraft services.

Production approval holder (PAH) means the person or company who holds a Production Certificate (PC), Approved Production Inspection System (APIS), Parts Manufacturer Approval (PMA), or Technical Standards Orders Authorization (TSOA), issued under provisions of 14 CFR part 21, Certification Procedures for Products and Parts, and who controls the design, manufacture, and quality of a specific aircraft part.

Qualified non-crewmember means an individual, other than a member of the crew, aboard an aircraft—

(1) Operated by an United States Government agency in the intelligence community; or

(2) Whose presence is required to perform or is associated with performing the Governmental function for which the aircraft is being operated (Qualified non-crewmembers are not passengers).

Registration mark means the unique identification mark that is assigned by the FAA and displayed on U.S.-registered Government aircraft (except Armed Forces aircraft). Foreign-registered aircraft hired as CAS will carry their national registration markings. Registration markings are commonly referred to as tail numbers.

Related aviation services contract means a commercial contractual agreement through which an executive agency hires aviation services only (not aircraft), e.g., pilot, crew, maintenance, cleaning, dispatching, or catering.

Required use travel means use of a Government aircraft for the travel of an executive agency officer or employee where the use of the Government aircraft is required because of bona fide communications or security need of the agency or exceptional scheduling requirements. Required use travel must be approved as described in OMB Circular A-126.

Risk analysis and management means a systematic process for—

(1) Identifying risks and hazards associated with alternative courses of action involved in an aviation operation;

(2) Choosing from among these alternatives the course(s) of action that will promote optimum aviation safety;

(3) Assessing the likelihood and predicted severity of an injurious mishap within the various courses of action;

(4) Controlling and mitigating identified risks and hazards within the chosen course(s) of action; and

(5) Periodically reviewing the chosen course(s) of action to identify possible emerging risks and hazards.

Safe for flight means approved for flight and refers to an aircraft, aircraft engine, propeller, appliance, or part that has been inspected and certified to meet the requirements of applicable regulations, specifications, or standards. When applied to an aircraft that an executive agency operates under FAA regulations, safe for flight means “airworthy,” i.e., the aircraft or related parts meet their design specifications and are in a condition, relative to wear and deterioration, for safe operation. When applied to an aircraft that an executive agency uses, but does not operate under the FAA regulations, safe for flight means a state of compliance with military specifications or the executive agency's own Flight Program Standards, and as approved, inspected, and certified by the agency.

Safety Management System (SMS) means a formal, top-down business-like approach to managing safety risk. It includes systematic procedures, practices, and policies for the management of safety, safety risk management, safety policy, safety assurance, and safety promotion. For more information on SMS, refer to FAA Advisory Circular 120-92, “Safety Management Systems for Aviation Service Providers.”

Senior Aviation Management Official (SAMO) means the person in an executive agency who is the agency's primary member of the Interagency Committee for Aviation Policy (ICAP). This person must be of appropriate grade and position to represent the agency and promote flight safety and adherence to standards.

Serviceable aircraft part means a part that is safe for flight, can fulfill its operational requirements, and is sufficiently documented to indicate that the part conforms to applicable standards/specifications.

Suspected unapproved part means an aircraft part, component, or material that any person suspects of not meeting the requirements of an “approved part.” Approved parts are those that are produced in compliance with 14 CFR part 21, are maintained in compliance with 14 CFR parts 43 and 91, and meet applicable design standards. A part, component, or material may be suspect because of its questionable finish, size, or color; improper (or lack of) identification; incomplete or altered paperwork; or any other questionable indication. See detailed guidance in FAA Advisory Circular 21-29, “Detecting and Reporting Suspected Unapproved Parts,” available from the FAA at http://www.faa.gov.

Traceable part means an aircraft part whose manufacturer or production approval holder can be identified by documentation, markings/characteristics on the part, or packaging of the part. Non-military parts are traceable if you can establish that the parts were manufactured in accordance with or were previously determined to be airworthy under rules in 14 CFR parts 21 and 43. Possible sources for making a traceability determination could be shipping tickets, bar codes, invoices, parts marking (e.g., PMA, TSO), data plates, serial/part numbers, manufacturing production numbers, maintenance records, work orders, etc.

Training means instruction for all flight program personnel (to include administrative, maintenance and dispatch personnel), which enables them to qualify initially for their positions and to maintain qualification for their positions over time.

Note: This instruction can apply to either public or civil missions as defined in the latest version of the FAA's Advisory Circular for Government aircraft operations.

Unmanned Aircraft Systems (UAS) means an unmanned aircraft and its associated elements related to safe operations, which may include but not be limited to control stations, data communications links, support equipment, payloads, flight termination systems, and launch/recovery equipment. The unmanned aircraft (UA) is the flying component of the system, flown by a pilot via a ground control system, or autonomously through the use of an on-board computer, communication links, and any additional equipment necessary for the unmanned aircraft to operate safely. The Federal Aviation Administration issues either an Airworthiness Directive (AD) or a Certificate of Authorization (COA) for the entire system, not just the flying component of the system. Reporting of UAS costs and flight hours is only required if the accumulated costs for acquisition and operations meets the agency's threshold for capitalization, and the UAS has a useful life of two years or more.

Unsalvageable aircraft part means an aircraft part that cannot be restored to a condition that is safe for flight because of its age, its physical condition, a non-repairable defect, insufficient documentation, or its non-conformance with applicable standards/specifications.

U.S. Government Aircraft Cost Accounting Guide (CAG) means guidance for the accounting of Government aircraft costs published by GSA and is based on the cost guidance within OMB Circular A-126, OMB Circular A-76, FAIRS, and the U.S. Government Standard General Ledger.

Responsibilities

§ 102-33.25 What are our responsibilities under this part?

Under this part, your responsibilities are to—

(a) Acquire, manage, and dispose of Federal aircraft (see the definition of “Federal aircraft” in § 102-33.20) and acquire and manage Commercial Aviation Services (CAS) (see the definition for “CAS” in paragraph (2) of the definition of “Government aircraft” in § 102-33.20) as safely, efficiently, and effectively as possible consistent with the nature of your agency's aviation missions;

(b) Document and report the—

(1) Types and numbers of your Federal aircraft;

(2) Costs of acquiring and operating Government aircraft;

(3) Amount of time that your agency uses Government aircraft; and

(4) Accidents and incidents involving Government aircraft;

(c) Ensure that your Government aircraft are used only to accomplish your agency's official Government business;

(d) Ensure that all passengers traveling on your agency's Government aircraft are authorized to travel on such aircraft (see OMB Circular A-126);

(e) Appoint (by letter to the Deputy Associate Administrator, Office of Asset and Transportation Management, Office of Government-wide Policy, GSA) a Senior Aviation Management Official (SAMO), who will be your agency's primary member of the ICAP (this paragraph (e) applies to all executive agencies that use aircraft, including the Department of Defense (DOD), the Federal Aviation Administration (FAA), and the National Transportation Safety Board (NTSB), but excludes executive agencies that only hire aircraft occasionally for a specific flight). It is suggested that an agency's SAMO have:

(1) Experience as a pilot or crew member; or

(2) Management experience within an aviation operations management/flight program.

(f) Designate an official (by letter to the Deputy Associate Administrator, Office of Asset and Transportation Management, Office of Government-wide Policy, GSA) to certify the accuracy and completeness of information reported by your agency through FAIRS. (Armed Forces agencies, which include the DOD and the U.S. Coast Guard, are not required to report information to FAIRS.);

(g) Appoint representatives of the agency as members of ICAP subcommittees and working groups;

(h) Ensure that your agency's internal policies and procedures are consistent with the requirements of OMB Circulars A-126, A-76 and A-11, Federal Aviation Administration Advisory Circular 120-92, and this part; and

(i) Ensure that safety and other critical aviation program requirements are satisfied. Executive agencies that only hire aircraft occasionally for specific flights, must either:

(1) Establish an aviation program that complies with the requirements of OMB Circular A-126; or

(2) Hire those aircraft through an agency with a policy-compliant aviation program.

§ 102-33.30 What are the duties of an agency's Senior Aviation Management Official (SAMO)?

The duties of an agency's Senior Aviation Management Official (SAMO) are to—

(a) Represent the agency's views to the ICAP and vote on behalf of the agency as needed;

(b) Contribute technical and operational policy expertise to ICAP deliberations and activities;

(c) Serve as the designated approving official for FAIRS when the agency elects to have one person serve as both the SAMO and the designated official for FAIRS (DOD will not have a designated official for FAIRS); and

(d) Appoint representatives of the agency as members of ICAP subcommittees and working groups.

§ 102-33.35 How can we get help in carrying out our responsibilities?

To get help in carrying out your responsibilities under this part, you may—

(a) Call or write to GSA's Aviation Policy Division (see definition in § 102-33.20); or

(b) Find additional aviation program management information on the Internet at http://www.gsa.gov/aviationpolicy.

§ 102-33.40 What are some of GSA's responsibilities for Federal aviation management?

Under OMB Circular A-126, “Improving the Management and Use of Government Aircraft,” (http://www.whitehouse.gov/omb) GSA's chief responsibilities for Federal aviation management are to maintain—

(a) A single office to carry out Governmentwide responsibilities for Government aircraft management, and publishing that policy;

(b) An interagency committee (i.e., the ICAP), whose members represent the executive agencies that use Government aircraft to conduct their official business (including FAA and NTSB specifically) and advise and consult with GSA on developing policy for managing Government aircraft;

(c) A management information system to collect, analyze, and report information on the inventory, cost, usage, and safety of Government aircraft; and

(d) A set of performance indicators, policy recommendations, and guidance for the procurement, operation, and safety and disposal of Government aircraft.

Note to § 102-33.40: See OMB Circular A-126 (http://www.whitehouse.gov/omb) for a complete listing of GSA's responsibilities related to Federal aviation.

Subpart B—Acquiring Government Aircraft and Aircraft Parts

Overview

§ 102-33.50 Under what circumstances may we acquire Government aircraft?

(a) When you meet the requirements for operating an in-house aviation program contained in OMB Circular A-76, “Performance of Commercial Activities” and OMB Circular A-11, “Preparation, Submission, and Execution of the Budget,” Part 2, “Preparation and Submission of Budget Estimates,” Section 25.5, “Summary of Requirements,” Table 1, which refers to the Business Case for Acquisition and Maintenance of Aircraft, and Section 51.18, “Budgeting for the acquisition of capital assets,” subparagraph (d) (Both circulars are available at http://www.whitehouse.gov/omb), you may—

(1) Acquire Federal aircraft when—

(i) Aircraft are the optimum means of supporting your agency's official business;

(ii) You do not have aircraft that can support your agency's official business safely (e.g., in compliance with applicable safety standards and regulations) and cost-effectively;

(iii) No commercial or other Governmental source is available to provide aviation services safely (i.e., in compliance with applicable safety standards and regulations) and cost-effectively; and

(iv) Congress has specifically authorized your agency to purchase, lease, or transfer aircraft and to maintain and operate those aircraft (see 31 U.S.C. 1343);

(2) Acquire Commercial Aviation Services (CAS) when—

(i) Aircraft are the optimum means of supporting your agency's official business; and

(ii) Using commercial aircraft and services is safe (i.e., conforms to applicable laws, safety standards, and regulations) and is more cost effective than using Federal aircraft, aircraft from any other Governmental source, or scheduled air carriers.

(b) When acquiring aircraft, aircraft selection must be based on need, a strong business case, and life-cycle cost analysis, which conform to OMB Circular A-11, “Preparation, Submission, and Execution of the Budget,” Part 2, “Preparation and Submission of Budget Estimates,” Section 25.5, “Summary of Requirements,” Table 1, which refers to the Business Case for Acquisition and Maintenance of Aircraft (available at http://www.whitehouse.gov/omb).

§ 102-33.55 Are there restrictions on acquiring Government aircraft?

Yes, you may not acquire—

(a) More aircraft than you need to carry out your official business;

(b) Aircraft of greater size or capacity than you need to perform your Governmental functions cost-effectively; or

(c) Federal aircraft that Congress has not authorized your agency to acquire or Federal aircraft or commercial aircraft and services for which you have not followed the requirements in OMB Circulars A-76 and A-11 (available at http://www.whitehouse.gov/omb).

§ 102-33.60 What methods may we use to acquire Government aircraft?

Following the requirements of §§ 102-33.50 and 102-33.55, you (or an internal bureau or sub-agency within your agency) may acquire Government aircraft by means including, but not limited to—

(a) Purchase;

(b) Borrowing from a non-Federal source;

(c) Bailment from another executive agency;

(d) Exchange/sale;

(e) Reimbursable transfer from another executive agency (see §§ 102-36.75 and 102-36.80);

(f) Transfer from another executive agency as approved by GSA;

(g) Reassignment from one internal bureau or subagency to another within your agency;

(h) Transfer of previously forfeited aircraft;

(i) Insurance replacement (i.e., receiving a replacement aircraft);

(j) Capital lease;

(k) Rent or charter;

(l) Contract for full services (i.e., aircraft plus crew and related aviation services) from a commercial source; or

(m) Inter-service support agreements with other executive agencies for aircraft and services.

§ 102-33.65 What is the process for acquiring Government aircraft?

Acquiring Government aircraft, as described in §§ 102-33.70 through 102-33.105, generally follows a three-step process:

(a) Planning;

(b) Budgeting; and

(c) Contracting.

Planning To Acquire Government Aircraft

§ 102-33.70 What directives must we follow when planning to acquire Government aircraft?

When planning to acquire Government aircraft, you must follow the requirements in—

(a) 31 U.S.C. 1343, “Buying and Leasing Passenger Motor Vehicles and Aircraft”;

(b) OMB Circular A-126, “Improving the Management and Use of Government Aircraft” (http://www.whitehouse.gov/omb);

(c) OMB Circular A-11, Part 2, Section 25.5, Table 1, Business Case for Acquisition and Maintenance of Aircraft (http://www.whitehouse.gov/omb);

(d) OMB Circular A-76, “Performance of Commercial Activities” (http://www.whitehouse.gov/omb); and

(e) OMB Circular A-94, “Guidelines and Discount Rates for Benefit-Cost Analysis of Federal Programs” (http://www.whitehouse.gov/omb).

§ 102-33.75 What other guidance is available to us in planning to acquire Government aircraft?

You can find guidance for acquisition planning in:

(a) The “Aviation Planning Desk Guide” (available at http://www.gsa.gov/aviationpolicy) and

(b) OMB's “Capital Programming Guide,” which is a supplement to OMB Circular A-11 (http://www.whitehouse.gov/omb).

OMB Circular A-76

§ 102-33.80 Must we comply with OMB Circular A-76 before we acquire Government aircraft?

Yes, before you acquire Government aircraft, you must comply with OMB Circular A-76 (http://www.whitehouse.gov/omb). If you are acquiring Federal aircraft, you must ensure that the private sector cannot provide Government aircraft or related aviation services more cost-effectively than you can provide Federal aircraft and related services.

The Process for Budgeting To Acquire Government Aircraft

§ 102-33.90 What is the process for budgeting to acquire a Federal aircraft (including a Federal aircraft transferred from another executive agency)?

(a) The process for budgeting to acquire a Federal aircraft or to accept a Federal aircraft transferred from another executive agency requires that you have specific authority from Congress in your appropriation, as called for in 31 U.S.C. 1343, to—

(1) Purchase, capital lease, or lease a Federal aircraft and to operate and maintain it; or

(2) Accept a Federal aircraft transferred from another executive agency and to operate and maintain it.

(b) For complete information on budgeting to own Federal aircraft (i.e., large purchase of a capital asset), see OMB Circular A-11, Part 2, Sections 25.1 and 51.18. Also see §§ 102-33.70 and 102-33.75.

§ 102-33.95 What is the process for budgeting to acquire Commercial Aviation Services (CAS)?

Except for leases and capital leases, for which you must have specific Congressional authorization as required by 31 U.S.C. 1343, you may budget to fund your CAS out of your agency's operating budget. Also see §§ 102-33.70 and 102-33.75.

Contracting To Acquire Government Aircraft

§ 102-33.100 What are our responsibilities when contracting to purchase or capital lease a Federal aircraft or to award a CAS contract?

In contracting to purchase or capital lease a Federal aircraft or to award a CAS contract, you must follow the Federal Acquisition Regulation (FAR) (48 CFR Chapter 1) unless your agency is exempt from following the FAR.

§ 102-33.105 What minimum requirements must we put into our CAS contracts?

At a minimum, your CAS contracts and agreements must require that any provider of CAS comply with—

(a) Civil standards in 14 CFR that are applicable to the type of operation(s) you are asking the contractor to conduct;

(b) Applicable military standards; or

(c) Your agency's Flight Program Standards (see §§ 102-33.140 through 102-33.185 for the requirements for Flight Program Standards).

Acquiring Aircraft Parts

§ 102-33.110 What are our responsibilities when acquiring aircraft parts?

When acquiring aircraft parts, you must:

(a) Acquire the parts cost-effectively and acquire only what you need;

(b) Inspect and verify that all incoming parts are documented as safe for flight prior to installation;

(c) Obtain all logbooks (if applicable) and maintenance records (for guidance on maintaining records for non-military parts, see Federal Aviation Administration (FAA) Advisory Circular 43-9C, “Maintenance Records,” which is available from the FAA at http://www.faa.gov);

(d) Plan for adequate storage and protection; and

(e) Refer to FAA Advisory Circular 21-29C, Change (2), “Detecting and Reporting Suspected Unapproved Parts” (http://www.faa.gov).

§ 102-33.115 Are there requirements for acquiring military Flight Safety Critical Aircraft Parts (FSCAP)?

Yes, when you acquire military Flight Safety Critical Aircraft Parts (FSCAP), you must—

(a) Accept FSCAP only when it is documented or traceable to its original equipment manufacturer. A part's DOD FSCAP Criticality Code should be marked or tagged on the part or appear on its invoice/transfer document (see § 102-33.375 for further explanation of the FSCAP Criticality Codes); and

(b) Not install undocumented, but traceable FSCAP until you have the parts inspected and recertified by the original equipment manufacturer or other FAA-approved facility (see § 102-33.370 on FSCAP and AC 20-142).

§ 102-33.120 Are there requirements for acquiring life-limited parts?

Yes, when you acquire new or used life-limited parts, you must—

(a) Identify and inspect the parts, ensuring that they have civil or military-certified documentation; and

(b) Mutilate and dispose of any expired life-limited parts (see § 102-33.370 on handling life-limited parts).

Subpart C—Managing Government Aircraft and Aircraft Parts

Overview

§ 102-33.125 If we use Federal aircraft, what are our management responsibilities?

If you use Federal aircraft, you are responsible for—

(a) Establishing agency-specific Flight Program Standards, as defined in §§ 102-33.140 through 102-33.185;

(b) Accounting for the cost of acquiring, operating, and supporting your aircraft;

(c) Accounting for the use of your aircraft;

(d) Maintaining and accounting for aircraft parts;

(e) Reporting inventory, cost, and utilization data (for reporting requirements, see subpart E of this part); and

(f) Properly disposing of aircraft and parts following §§ 102-33.240 through 102-33.375.

§ 102-33.130 If we hire CAS, what are our management responsibilities?

If you hire CAS, you are responsible for—

(a) Establishing agency-specific Flight Program Standards, as defined in §§ 102-33.140 through 102-33.185, as applicable, and requiring compliance with these standards in your contracts and agreements;

(b) Accounting for the cost of your aircraft and services hired as CAS;

(c) Accounting for the use of your aircraft hired as CAS; and

(d) Reporting the cost and usage data for your CAS hires (for reporting requirements, see subpart E of this part).

§ 102-33.135 Do we have to follow OMB Circular A-123, “Management Accountability and Control,” for establishing management controls for our aviation program?

Yes, you must follow OMB Circular A-123, “Management's Responsibility for Accountability and Control” (http://www.whitehouse.gov/omb), when establishing management controls for your aviation program. The circular requires that you establish organizations, policies, and procedures to ensure that, among other things, your aviation program achieves its intended results and you use your resources consistently with your agency's missions.

Establishing Flight Program Standards

§ 102-33.140 What are Flight Program Standards?

Flight Program Standards are the minimum requirements that must be incorporated into your flight programs to ensure that your aircraft are operated safely, effectively, and efficiently. These requirements must:

(a) Be specific to your agency's aviation operations, including your CAS;

(b) Meet the requirements identified in §§ 102-33.155 through 102-33.185.

(c) Meet or exceed applicable civil or military rules (in particular 49 U.S.C. 40102(a)(37) and 40125), and applicable FAA regulations); and

(d) Incorporate risk management techniques when civil or military rules do not apply.

§ 102-33.145 Why must we establish Flight Program Standards?

You must establish Flight Program Standards because Title 14 of the Code of Federal Regulations (14 CFR) may not cover or address all aspects of your agency's flight program, such as non-certificated aircraft, high-risk operations, special personnel requirements, etc.

§ 102-33.150 What Federally-funded aviation activities of executive agencies are exempt from establishing Flight Program Standards under this part?

The following Federally-funded activities are exempt from establishing Flight Program Standards under this part:

(a) The Armed Forces (which includes the U.S. Coast Guard);

(b) Agencies in the Intelligence Community; and

(c) Entities outside the executive branch of the Federal Government when using aircraft loaned to them by an executive agency (that is, owned by an executive agency, but operated by and on behalf of the loanee) unless the loanee—

(1) Uses the aircraft to conduct official Government business; or

(2) Is required to follow §§ 102-33.140 through 102-33.185 under a Memorandum of Agreement governing the loan.

§ 102-33.155 How must we establish Flight Program Standards?

To establish Flight Program Standards, you must write, publish (as appropriate), implement, and comply with standards (specific to your agency), which establish or require (contractually, where applicable) policies and procedures for—

(a) Management/administration of your flight program (in this part, “flight program” includes CAS contracts);

(b) Operation of your flight program;

(c) Maintenance of your Government aircraft;

(d) Training for your flight program personnel;

(e) Safety of your flight program;

(f) Accident reporting and investigation as appropriate; and

(g) Reporting to FAIRS as required by this part.

Management/Administration

§ 102-33.160 What standards must we establish or require (contractually, where applicable) for management/administration of our flight program?

For management/administration of your flight program, you must establish or require (contractually, where applicable)—

(a) A management structure responsible for the administration, operation, safety, training, maintenance, and financial needs of your aviation operation (including establishing minimum requirements for these items for any commercial contracts); and

(b) Guidance describing the roles, responsibilities, and authorities of your flight program personnel, e.g., managers, pilots and other crewmembers, flight safety personnel, maintenance personnel, administrative personnel and dispatchers.

Operations

§ 102-33.165 What standards must we establish or require (contractually, where applicable) for operation of our flight program?

For operation of your flight program, you must establish or require (contractually, where applicable)—

(a) Basic qualifications and currency requirements for your pilots and other crewmembers, maintenance personnel, administrative personnel and other mission-related personnel;

(b) Limitations on duty time and flight time for pilots and other crewmembers;

(c) Procedures to record and track flight time, duty time, training of crewmembers, and applicable medical requirements;

(d) Compliance with owning-agency or military safety of flight notices and operational bulletins;

(e) Flight-following procedures to notify management and initiate search and rescue operations for lost or downed aircraft;

(f) Dissemination, as your agency determines appropriate, of a disclosure statement to all crewmembers and qualified non-crewmembers who fly aboard your agency's Government aircraft (see Appendix A to this part);

(g) Creation of a manifest, at the origin of each flight, that contains the full names of all persons on board for each leg of flight, a point of contact for each person, and phone numbers for the points of contact;

(h) Documentation of any changes in the manifest by leg, and retention of manifests for two years from the time of flight;

(i) Procedures for reconciling flight manifests with persons actually on board and a method to test those procedures periodically;

(j) At the origin of each flight, preparation of a complete weight and balance computation and a cargo-loading manifest, and retention of this computation and manifest for 30 days from the date of flight;

(k) Appropriate emergency procedures and equipment for specific missions;

(l) Procedures to ensure that required Aviation Life Support Equipment (ALSE) is inspected and serviceable; and

(m) Procedures to implement a “risk assessment” before each flight and/or as frequently as necessary that include such items as weather, crew rest, type of flight (low level, Instrument Flight Rules (IFR), night, etc.) crew makeup, etc. This process should be accomplished in accordance with your agency's operations, flight dispatch, or flight following procedures/program.

Maintenance

§ 102-33.170 What standards must we establish or require (contractually, where applicable) for maintenance of our Government aircraft?

For maintenance of your Government aircraft, you must establish or require (contractually, where applicable)—

(a) Procedures to record and track duty time and training of maintenance personnel;

(b) Aircraft maintenance and inspection programs that comply with whichever is most applicable among—

(1) Programs for ex-military aircraft;

(2) Manufacturers' programs;

(3) FAA-approved programs (i.e., following the applicable parts of 14 CFR);

(4) FAA-accepted programs (i.e., those following ICAP guides or similar programs that have been accepted by the FAA); or

(5) Your agency's self-prescribed programs;

(c) Compliance with owning-agency or military safety of flight notices, FAA airworthiness directives, advisory circulars and orders, or mandatory manufacturers' bulletins applicable to the types of aircraft, engines, propellers, and appliances you operate;

(d) Procedures for operating aircraft with inoperable instruments and equipment (i.e., Minimum Equipment Lists and Configuration Deviation Lists);

(e) Technical support, including appropriate engineering documentation and testing, for aircraft, powerplant, propeller, or appliance repairs, modifications, or equipment installations;

(f) A quality control system for acquiring replacements, ensuring that the parts you acquire are suitable replacement parts and have the documentation needed to determine that they are safe for flight and are inspected and tested, as applicable;

(g) Procedures for recording and tracking maintenance actions; inspections; and the flight hours, cycles, and calendar times of life-limited parts and FSCAP; and

(h) The use of alternative aviation fuels in fleet aircraft to the maximum extent possible consistent with the availability of approved alternative fuels and aircraft operating procedures or manuals for those aircraft.

Training

§ 102-33.175 What standards must we establish or require (contractually, where applicable) to train our flight program personnel?

You must establish or require (contractually, where applicable) the following standards to train your flight program personnel—

(a) An instructional program to train your flight program personnel, initially and on a recurrent basis, in their roles, responsibilities, authorities, and in the operational skills relevant to the types of operations that you conduct. Flight program personnel may include, e.g., managers, pilots and other crewmembers, flight safety personnel, maintenance personnel, administrative personnel and dispatchers; and

(b) An instructional program that meets the specific requirements for safety manager training identified in § 102-33.180(a).

Safety

§ 102-33.180 What standards should we establish or require (contractually, where applicable) for aviation safety management?

You should establish or require (contractually, where applicable) the following aviation safety management standards:

(a) By June 30, 2015, a Safety Management System (SMS) that complies with the FAA's current Advisory Circular that addresses Safety Management Systems (SMS) or an equivalent internationally recognized SMS standard. The SMS should include:

(1) Policies that define clear roles and responsibilities for implementing an SMS. This includes ensuring that senior level management has the ultimate responsibility for your SMS. It also includes appointing members of management as qualified aviation safety managers and safety officers (i.e., individuals who are responsible for an agency's aviation safety program, regardless of title), who should be—

(i) Experienced as pilots, crewmembers, maintenance personnel, or have experience in aviation management or aviation maintenance program management; and

(ii) Graduated or certificated from an aviation safety officer course provided by a recognized training provider and authority in aviation safety before appointment or within one year after appointment; and

(2) A program for preventing accidents, which includes—

(i) Measurable accident prevention procedures (e.g., safety reviews, clear roles and responsibilities, operations and maintenance procedures, pilot and mechanic proficiency evaluations, fire drills, hazard analyses);

(ii) A procedure or system for disseminating accident-prevention information;

(iii) Safety training;

(iv) An aviation safety awards program that includes applying for the annual Federal Aviation Awards as appropriate;

(v) An annual review to ensure compliance with the GSA Gold Standard Program; and

(vi) A safety council or committee (applies to Federal aircraft-owning agencies);

(b) Procedures and processes for risk analysis and risk management that identify and mitigate hazards through formal administrative and engineering controls and provide recommendations to senior level managers for managing risk to an optimum level;

(c) Policies that require the use of independent, unbiased inspectors to verify compliance with the standards called for in this;

(d) Procedures for reporting unsafe operations to agency aviation safety officers and senior aviation safety managers without reprisal;

(e) A system to collect and report information on aircraft accidents and incidents (as required by 49 CFR part 830 and 41 CFR 102-33.445 and 102-33.450);

(f) Policies that identify clear standards for acceptable behavior; and

(g) A security program that includes—

(1) A designated security manager;

(2) A threat assessment process;

(3) Procedures for preventing and deterring unlawful acts;

(4) Procedures for responding to threats and unlawful acts;

(5) Security training for personnel; and

(6) Policies and procedures for a mail security plan that meet the mail security requirements contained in FMR 102-192, “Mail Management,” Subpart C, “Security Requirements for All Agencies,” §§ 102-192.70 through 102-192.80. Specifically, section 102-192.80 identifies topics that must be addressed in an agency's mail security plan, to include a plan to protect staff and all other occupants of agency facilities from hazards that might be delivered in the mail, which would include an agency's use of aircraft for mail delivery.

§ 102-33.185 What standards must we establish or require (contractually, where applicable) for responding to aircraft accidents and incidents?

You must establish or require (contractually, where applicable) the following standards for responding to aircraft accidents and incidents:

(a) An aircraft accident/incident reporting policy to ensure that you will comply with the National Transportation Safety Board's (NTSB) regulations (located in 49 CFR parts 830 and 831), including notifying NTSB immediately when you have an aircraft accident or an incident as defined in 49 CFR 830.5. In addition, this policy must contain a method of notifying the U.S. General Services Administration of an accident or incident that was reported to the NTSB. Refer to §§ 102-33.445 and 102-33.450 for further information;

(b) An agency, bureau, or field level accident/incident response plan, modeled on the NTSB's “Federal Plan for Aviation Accidents Involving Aircraft Operated by or Chartered by Federal Agencies,” and periodic disaster response exercises to test your plan. A copy of the NTSB's plan is available at http://www.ntsb.gov. The plan should also refer to or incorporate procedures (as outlined in FAA Advisory Circular 120-92) to identify the potential for accidents or incidents;

(c) Procedures (see 49 CFR 831.11) for participation as a party to NTSB accident or incident investigations involving aircraft that your agency either owns or hires, and for conducting parallel investigations, as appropriate;

(d) Training in investigating accidents/incidents for your agency's personnel who may be asked to participate in NTSB investigations or to conduct a parallel investigation; and

(e) Procedures for disseminating, in the event of an aviation disaster that involves one of your Government aircraft, information about eligibility for benefits contained in the disclosure statement in Appendix A of this part to anyone injured, to the injured or deceased persons' points of contact (listed on the manifest), and to the families of injured or deceased crewmembers and qualified non-crewmembers.

Note to § 102-33.185: This part does not supersede any of the regulations in 49 CFR parts 830 and 831. For definitions of terms and complete regulatory guidance on notifying the NTSB and reporting aircraft accidents and incidents, see 49 CFR parts 830 and 831.

Accounting for the Costs of Government Aircraft

§ 102-33.190 What are the aircraft operations and ownership costs for which we must account?

You must account for the operations and ownership costs of your Government aircraft, including your Unmanned Aircraft Systems (UAS), as described in the “U.S. Government Aircraft Cost Accounting Guide” (CAG), available at (http://www.gsa.gov/aviationpolicy), which follows OMB Circular A-126 (http://www.whitehouse.gov/omb). To account for aircraft costs, you must do at least the following:

(a) Justify acquisitions to support the agency's aviation program;

(b) Justify the use of Government aircraft in lieu of commercially available aircraft, and the use of one Government aircraft in lieu of another;

(c) Develop a variable cost rate for each aircraft or aircraft type (i.e., make and model) in your inventory;

(d) Recover the costs of operating Government aircraft;

(e) Determine the cost effectiveness of various aspects of agency aircraft programs; and

(f) Accumulate aircraft program costs following the procedures defined in the CAG, available at (http://www.gsa.gov/aviationpolicy).

§ 102-33.195 Do we need an automated system to account for aircraft costs?

(a) Yes, if you own Federal aircraft or operate bailed aircraft, you must maintain an automated system to account for aircraft costs by collecting the cost data elements required by FAIRS. The functional specifications and data definitions for a FAIRS-compliant system are described in the “Common Aviation Management Information Standard” (C-AMIS), which is available from the Aviation Policy Division. See §§ 102-33.395, 102-33.405, and 102-33.410 for more information on FAIRS, and §§ 102-33.455 and 102-33.460 for more information on C-AMIS.

(b) Agencies that use only CAS aircraft and do not have Federal aircraft must keep records adequate for reporting information through FAIRS, but are not required to have an automated system. See §§ 102-33.435 and 102-33.440 for the information on CAS that you must report through FAIRS.

§ 102-33.200 Must we periodically justify owning and operating Federal aircraft?

Yes, after you have held a Federal aircraft for five years, you must:

(a) Justify owning and operating the aircraft by reviewing your operations and establishing that you have a continuing need for the aircraft, using the procedures required in OMB Circular A-76 and OMB Circular A-11, Part 7, Appendix B, Budgetary treatment of lease-purchases and leases of capital assets; and

(b) Review the continuing need for each of your aircraft and the cost-effectiveness of your aircraft operations as directed by OMB Circulars A-11 and A-76, every five years.

§ 102-33.205 When we use our aircraft to support other executive agencies, must we recover the operating costs?

Yes, you must recover the following:

(a) Under 31 U.S.C. 1535 and other statutes, you may be required to recover the costs of operating aircraft in support of other agencies. Depending on the statutory authorities under which you acquired and operate your aircraft, you will use either of the following two methods for establishing the rates charged for using your aircraft:

(1) The variable cost recovery rate; or

(2) The full cost recovery rate.

(b) See the U.S. Government Aircraft Cost Accounting Guide (CAG) (http://www.gsa.gov/aviationpolicy), for the definitions of “variable cost recovery rate” and “full cost recovery rate.”

Accounting for the Use of Government Aircraft

§ 102-33.210 How do we account for the use of our Government aircraft?

To account for the use of Government aircraft, including your Unmanned Aircraft Systems (UAS), you must document all flights and keep this documentation for two years after the date of the flight. For each flight, record the—

(a) Aircraft's registration mark;

(b) Owner and operator (the owner may not be the operator, as is the case when a CAS aircraft, owned commercially, is operated by U.S. Government personnel);

(c) Purpose of the flight (the Governmental function that the aircraft was dispatched to perform);

(d) Departure and destination points;

(e) Flight date(s) and times;

(f) Manifest (see § 102-33.165(g) and (h)); and

(g) Name(s) of the pilot(s) and crewmembers.

§ 102-33.215 May we use Government aircraft to carry passengers?

Yes, you may use Government aircraft to carry passengers with the following restrictions:

(a) You may carry passengers only on aircraft that you operate or require contractually to be operated in accordance with the rules and requirements in 14 CFR; and

(b) For certain kinds of travel, your agency must justify passengers' presence on Government aircraft. See OMB Circular A-126 and the Federal Travel Regulation (FTR) §§ 301-10.260 through 301-10.266, and 301-70.800 through 301-70.808, and 301-70.910 (41 CFR 301-10.260 through 301-10.266, 301-70.800 through 301-70.808, and 301-70.910) for complete information on authorizing travel and analyzing costs before authorizing travel on Government aircraft.

§ 102-33.220 What are the responsibilities of our aviation program in justifying the use of a Government aircraft to transport passengers?

After receiving a request from your agency, your aviation program's responsibilities in justifying the use of a Government aircraft to transport passengers are to your travel approving authority:

(a) Cost estimates to assist in determining whether or not use of a Government aircraft to carry passengers is justified. See OMB Circular A-126 (http://www.whitehouse.gov/omb) for more information on justifying travel on Government aircraft. See also FTR §§ 301-10.260 through 301-10.266, and 301-70.800 through 301-70.808, and 301-70.910 (41 CFR 301-10.260 through 301-10.266, 301-70.800 through 301-70.808, and 301-70.910) for guidance on estimating the cost of using a Government aircraft. The cost of using a Government aircraft is—

(1) The variable cost of using a Federal aircraft;

(2) The amount your agency will be charged by a CAS provider; or

(3) The variable cost of using an aircraft owned by another agency as reported by the owning agency; and

(b) Information to assist in the analysis of alternatives to travel on Government aircraft. The information must include the following:

(1) If no follow-on trip is scheduled, all time required to position the aircraft to begin the trip and to return the aircraft to its normal base of operations;

(2) If a follow-on trip requires repositioning, the cost for the repositioning should be charged to the associated follow-on trip;

(3) If an aircraft supports a multi-leg trip (a series of flights scheduled sequentially), the use of the aircraft for the total trip may be justified by comparing the total variable cost of the entire trip to the commercial aircraft cost (including charter) for all legs of the trip; and

(4) The use of foreign aircraft as CAS is authorized when the agency has determined that an equivalent level of safety exists as compared to U.S. operations of a like kind. The safety of passengers shall be the overriding consideration for the selection of travel mode when comparing foreign sources of scheduled commercial airlines and CAS.

Managing Aircraft Parts

§ 102-33.225 How must we manage aircraft parts?

You must manage your aircraft parts by maintaining proper storage, protection, maintenance procedures, and records for the parts throughout their life cycles.

§ 102-33.230 May we use military FSCAP on non-military FAA-type certificated Government aircraft?

You may use dual-use military FSCAP on non-military aircraft operated under restricted or standard airworthiness certificates if the parts are inspected and approved for such installation by the FAA. See detailed guidance in FAA Advisory Circular 20-142, Change (1), “Eligibility and Evaluation of U.S. Military Surplus Flight Safety Critical Aircraft Parts, Engines, and Propellers” (http://www.faa.gov).

§ 102-33.235 What documentation must we maintain for life-limited parts and FSCAP?

For life-limited parts and FSCAP, you must hold and update the documentation that accompanies these parts for as long as you use or store them. When you dispose of life-limited parts or FSCAP, the up-to-date documentation must accompany the parts. (See § 102-33.370.)

Subpart D—Disposing or Replacing of Government Aircraft and Aircraft Parts

Overview

§ 102-33.240 What must we consider before disposing or replacing aircraft and aircraft parts?

Before disposing of aircraft and aircraft parts, you must first determine if the aircraft or parts are excess to your agency's mission or, if your aircraft or parts are not excess, if you will need replacements, as follows:

(a) If your aircraft/parts are . . . | And . . . | Then . . .
No longer needed to perform their mission(s) for your agency, i.e., they are excess to your needs, | You do not need to replace them, | You must report them to GSA as excess property (see 41 CFR 102-36.45(e)).
(b) If your aircraft/parts are . . . | And . . . | Then . . .
No longer suitable, or capable of performing their mission(s) for your agency, | You do need to replace them, | You may consider using the exchange/sale authority (see 41 CFR part 102-39).

§ 102-33.245 May we report as excess, or replace (i.e., by exchange/sale), both operational and non-operational aircraft?

Yes, you may report as excess, or replace both operational and non-operational aircraft by following the rules governing excess personal property and exchange/sale (see 41 CFR parts 102-36 and 102-39, respectively).

§ 102-33.250 May we declassify aircraft?

Yes, you may declassify aircraft (See §§ 102-33.415 and 102-33.420).

(a) A declassified aircraft is no longer considered an aircraft, but may be considered as a group of aircraft parts or other property for ground use only.

(b) You must retain documentation and traceability on all parts that are intended for use as replacement parts on other aircraft. You must carry such “aircraft parts or other property” on your property records under the appropriate Federal Supply Classification group(s) (e.g., miscellaneous property).

(c) For disposal of the property remaining after declassification of an aircraft, you must follow the property disposal regulations in 41 CFR parts 102-36, 102-37, 102-38 and 102-39.

§ 102-33.255 Must we document FSCAP or life-limited parts installed on aircraft that we will report as excess or replace?

Yes, you must comply with the documentation procedures described in § 102-33.370 if your aircraft and/or engines contain FSCAP or life-limited parts that you will report as excess or replace.

§ 102-33.260 When we report as excess, or replace, an aircraft (including a declassified aircraft), must we report the change in inventory to the Federal Aviation Interactive Reporting System (FAIRS)?

(a) Yes. When you report as excess or replace an aircraft you must report the change in inventory to FAIRS. For more information see § 102-33.405.

(b) Within 14 calendar days of the date you dispose of the aircraft, you must report—

(1) The disposal method (e.g., reassignment, inter-agency transfer, donation, sale as surplus or scrap, declassification, or exchange/sale);

(2) The disposal date; and

(3) The identity and type of recipient (e.g., State, educational institution, executive agency, commercial vendor).

Reporting Excess Federal Aircraft

§ 102-33.265 What must we do with aircraft that are excess to our needs?

If aircraft are excess to your needs, you must:

(a) Reassign the aircraft within your agency if any of your sub-agencies can use the aircraft; or

(b) Report the aircraft as excess property to GSA (see 41 CFR part 102-36) if none of your sub-agencies can use the aircraft.

§ 102-33.270 What is the process for reporting an excess aircraft?

To report an excess aircraft, you must:

(a) Report electronically to GSA's Federal Disposal System GSAXcess® (http://gsaxcess.gov). For information on reporting excess property electronically, contact the Federal Acquisition Service (FAS), Pacific Rim Region (Region 9) at (415) 522-2777; and

(b) Submit a Standard Form (SF) 120, Report of Excess Personal Property (see § 102-2.135), to: General Services Administration, Federal Acquisition Service, Pacific Rim Region, 450 Golden Gate Avenue, 4th Floor West, San Francisco, CA, 94102-3434.

Replacing Aircraft Through Exchange/Sale

§ 102-33.275 What should we consider before replacing our aircraft through exchange/sale?

Before an exchange/sale of your aircraft, you should consider whether:

(a) You have a continuing need for similar property and that the property being exchanged or sold is not excess or surplus; and

(b) The exchange/sale meets all other requirements in 41 CFR part 102-39.

§ 102-33.280 What are our options if we need a replacement aircraft?

If you need to replace an aircraft, your options are—

(a) Negotiating and conducting an exchange transaction directly with an aircraft provider and obtaining credit toward the purchase of a replacement aircraft, following the procurement rules applicable to your agency; or

(b) Selling the aircraft and using the proceeds to offset the cost of purchasing a replacement aircraft, following 41 CFR part 102-39. Sales Centers (SC) that are currently authorized to conduct sales, as well as contact information for the GovSales Program Manager, are available on the GovSales Web site at http://www.gsa.gov/portal/content/105020.

§ 102-33.285 Do we need to include any special disclaimers in our exchange/sale agreements for non-certificated aircraft or aircraft that we have operated as public aircraft (i.e., not in compliance with 14 CFR)?

Yes, when you exchange/sell non-certificated aircraft or aircraft maintained as public aircraft, you must ensure that the exchange/sale offerings contain the following statement:

“Warning to purchasers/recipients. The aircraft you are purchasing or receiving in an exchange may not be in compliance with applicable Federal Aviation Administration (FAA) requirements. You are solely responsible for bringing the aircraft into compliance with 14 CFR Chapter I, or other applicable standards, by obtaining all necessary FAA inspections or modifications.

The purchaser/recipient agrees that the Government shall not be held liable for personal injuries to, disabilities of, or death of the purchaser/recipient, the purchaser's/recipient's employees, or to any other persons arising from or incident to the purchase of this aircraft, its use, or disposition. You will hold the Government harmless from any or all debts, liabilities, judgments, costs, demands, suits, actions, or claims of any nature arising from or incident to the purchase, use, or resale of this item. This aircraft may have been operated outside the limitations of 14 CFR Chapter I, and some type of inspection may be needed to determine its airworthiness prior to being flown. You should be aware of the items below prior to operating this aircraft.

• All civil and public aircraft must have a valid registration issued by the FAA as required by 14 CFR Chapter I.

• Civil aircraft must have a valid airworthiness certificate in order to operate in the U.S. airspace.

• In order for the aircraft to be eligible for a standard airworthiness certificate, the aircraft must conform to its FAA Type Certificate.

• Aircraft not having a valid airworthiness certificate may be eligible for a special FAA one-time flight permit to enable relocating the aircraft. Relocation can be for a number of reasons, including storage, repair, inspection, or public display. Any one-time flight approval is predicated on the aircraft being safe for flight.

• Individuals who purchase a surplus military (foreign or domestic) or foreign aircraft not having any type of FAA Type Certificate may be unable to obtain any type of airworthiness certificate or special flight permit.

• An aircraft with good maintenance and inspection records makes an airworthiness determination easier to ascertain. It is in your best interest to contact the nearest FAA Flight Standards District Office and discuss your responsibilities with respect to gaining an airworthiness determination. The location of your nearest FAA office may be obtained from the FAA's Web site (http://www.faa.gov/).

• When the aircraft is purchased for spare parts and the airframe is scrapped, you should declassify the aircraft (see § 102-33.420 for more information), complete the back of the aircraft's registration form and send it to: The FAA Aircraft Registration Branch, P.O. Box 25504, Oklahoma City, OK 73125-0504.”

§ 102-33.295 May we exchange/sell an aircraft through reimbursable transfer to another executive agency or conduct a negotiated sale at fixed price to a State Agency for Surplus Property (SASP)?

Yes, you may exchange/sell an aircraft through reimbursable transfer to another executive agency or conduct a negotiated sale at fixed price to a State Agency for Surplus Property (SASP) (see § 102-39.55 for more information).

Note to § 102-33.295: Some agencies may also have special congressional authorization to recover costs.

Disposing of Aircraft Parts

§ 102-33.300 What must we consider before disposing of aircraft parts?

Before disposing of aircraft parts, you must first determine if they are excess to your agency's mission requirements or, if the aircraft parts are not excess, if you will need replacements. The table in § 102-33.240 shows the differences between excess and replacement parts.

§ 102-33.305 May we report as excess, or replace, FSCAP and life-limited parts?

Yes, you may report as excess, or replace, FSCAP and life-limited parts, but they require special handling. See the tables in § 102-33.370.

§ 102-33.310 May we report as excess, or replace, unsalvageable aircraft parts?

No, you may not report unsalvageable aircraft parts as excess or exchange/sale them for replacements. You must mutilate unsalvageable parts. You may sell the mutilated parts only as scrap or report that scrap to GSA for sale.

§ 102-33.315 What are the procedures for mutilating unsalvageable aircraft parts?

When mutilating unsalvageable aircraft parts, you must—

(a) Destroy the data plates, remove the serial/lot/part numbers, and cut, crush, grind, melt, burn, or use other means to prevent the parts from being misidentified or used as serviceable aircraft parts. Call your regional FAA Flight Standards District Office for additional guidance;

(b) Ensure that an authorized official of your agency witnesses and documents the mutilation; and

(c) Retain a signed certification and statement of mutilation.

§ 102-33.320 What must we do if we are unable to perform required mutilation of aircraft parts?

If you are unable to perform the required mutilation of aircraft parts, you must turn the parts in to a Federal or Federally-approved facility for mutilation and proper disposition. Ensure that any contractor follows the provisions of § 102-33.315 for mutilating and disposing of the parts.

§ 102-33.325 What documentation must we furnish with excess, surplus or replaced parts when they are transferred, donated, or exchanged/sold?

When you transfer, donate, or exchange/sell excess, surplus or replaced parts, you must—

(a) Furnish all applicable labels, tags, and historical and modification records for serviceable aircraft parts;

(b) Mark mutilated parts as unsalvageable (mutilated parts may be sold only for scrap; see § 102-33.315); and

(c) Ensure that all available tags, labels, applicable historical data, life-histories, and maintenance records accompany FSCAP and life-limited parts and that FSCAP criticality codes (see § 102-33.375) are perpetuated on documentation (see § 102-33.330 for additional requirements).

Reporting Excess Aircraft Parts

§ 102-33.330 What must we do with aircraft parts that are excess to our needs?

If aircraft parts are excess to your needs, you must:

(a) Reassign the aircraft parts within your agency if any of your sub-agencies can use the parts; or

(b) Report the excess parts to GSA, using Standard Form (SF) 120, “Report of Excess Personal Property” (see § 102-2.135 for information to obtain this form). When reporting excess FSCAP, you must include the manufacturer's name, date of manufacture, part number, serial number, and the appropriate Criticality Code on the SF 120. For information on reporting excess property, refer to http://gsaxcess.gov. (See 41 CFR part 102-36 regarding disposal of excess property.)

§ 102-33.335 What are the receiving agency's responsibilities in the transfer of aircraft parts?

An agency that receives transferred aircraft parts must:

(a) Verify that all applicable labels and tags and historical and modification records accompany all serviceable aircraft parts (i.e., parts that are intended for flight use) that you receive. This requirement does not apply to parts for ground use only. See the tables in § 102-33.370.

(b) Mutilate all transferred parts that you discover to be unsalvageable, and dispose of them properly, following the procedures in § 102-33.315.

§ 102-33.340 What are GSA's responsibilities in disposing of excess and surplus aircraft parts?

In disposing of excess aircraft parts, the GSA FAS office in your region:

(a) Reviews your SF 120, Report of Excess Personal Property (see § 102-2.135 for information to obtain this form) for completeness and accuracy (of status, condition, and FSCAP and demilitarization codes if applicable); and

(b) Ensures that the following certification is included on disposal documents (e.g., transfer orders or purchasers' receipts):

Because of the critical nature of the failure of aircraft parts and the resulting potential safety threat, recipients of aircraft parts must ensure that any parts installed on an aircraft meet applicable Federal Aviation Administration (FAA) requirements and must obtain required certifications. GSA makes no representation as to a part's conformance with the FAA requirements.

§ 102-33.345 What are the responsibilities of a State Agency for Surplus Property (SASP) in the donation of Federal Government aircraft parts?

When a SASP accepts surplus Federal Government aircraft parts for donation, the SASP must:

(a) Review donation and transfer documents for completeness and accuracy, and ensure that the certification in § 102-33.340 is included;

(b) Ensure that when the donee determines the part to be unsalvageable, the donee mutilates the part following the procedures in § 102-33.315; and

(c) Ensure that the donee retains, maintains, and perpetuates all documentation for serviceable parts (parts intended for flight use).

Replacing Aircraft Parts Through Exchange/Sale

§ 102-33.350 What do we need to consider for an exchange/sale of our aircraft parts?

(a) When replacing aircraft parts through exchange/sale you—

(1) Do not need approval from GSA; and

(2) Must follow the provisions of this subpart and part 102-39 of this chapter.

(b) Replacement parts do not have to be for the same type or design of aircraft, but you must use the exchange allowance or sales proceeds to purchase aircraft parts to support your aviation program which meet the “similarity” requirement in 41 CFR part 102-39.

§ 102-33.355 May we exchange/sell aircraft parts through a reimbursable transfer to another executive agency or conduct a negotiated sale at fixed price to a State Agency for Surplus Property (SASP)?

Yes, you may exchange/sell aircraft parts through a reimbursable transfer to another executive agency, or conduct a negotiated sale at fixed price to a SASP (see § 102-39.55 for more information).

§ 102-33.360 What is the process for exchanging/selling aircraft parts for replacement?

(a) You or your agent (i.e., another Federal agency or an authorized Sales Center) may transact an exchange/sale directly with a non-Federal source, or do a reimbursable transfer with another executive agency as long as you or your agent—

(1) Follow the provisions in this part and in 41 CFR part 102-39;

(2) Ensure that the applicable labels and tags, historical data and modification records accompany the parts at the time of sale, and that sales offerings on aircraft parts contain the following statement:

“Warning to purchasers/recipients. The aircraft parts you are purchasing or receiving in an exchange may not be in compliance with applicable Federal Aviation Administration (FAA) requirements. You are solely responsible for bringing the aircraft into compliance with 14 CFR Chapter I, or other applicable standards, by obtaining all necessary FAA inspections or modifications.”

(3) Ensure that the following certification is signed by the purchaser/recipient and received by the Government before releasing parts to the purchaser/recipient:

“The purchaser/recipient agrees that the Government shall not be held liable for personal injuries to, disabilities of, or death of the purchaser/recipient, the purchaser's/recipient's employees, or to any other persons arising from or incident to the purchase of these aircraft parts, their use, or disposition. The purchaser/recipient shall hold the Government harmless from any or all debts, liabilities, judgments, costs, demands, suits, actions, or claims of any nature arising from or incident to the purchase, use, or resale of these aircraft parts.

These parts may have been used on aircraft that were operated outside the limitations of 14 CFR Chapter I, and some type of inspection may be needed to determine their airworthiness prior to being used on a recipient aircraft.

You should be aware of the following requirements prior to operating an aircraft with parts received from an exchange.

• All civil and public aircraft must have a valid registration issued by the FAA as required by 14 CFR Chapter I.

• Civil aircraft must have a valid airworthiness certificate in order to operate in U.S. airspace.

• In order for the aircraft to be eligible for a standard airworthiness certificate, the aircraft must conform to its FAA Type Certificate.

• Aircraft not having a valid airworthiness certificate may be eligible for a special FAA one-time flight permit to enable relocating the aircraft. Relocation can be for a number of reasons, perhaps including storage, repair, inspection, or public display. Any one-time flight approval is predicated on the aircraft being safe for flight.

• Individuals who purchase a surplus military (foreign or domestic) or foreign aircraft not having any type of FAA Type Certificate may be unable to obtain any type of airworthiness certificate or special flight permit.

• An aircraft with good maintenance and inspection records makes an airworthiness determination easier to ascertain. It is in your best interest to contact the nearest FAA Flight Standards District Office and discuss your responsibilities with respect to gaining an airworthiness determination. The location of your nearest FAA office may be obtained from the FAA's Web site (http://www.faa.gov/).”

(b) Authorized SCs can conduct sales of aircraft parts for you. SCs that are currently authorized to conduct sales, as well as contact information for the GovSales Program Manager, are available on the GovSales Web site at http://www.gsa.gov/portal/content/105020.

§ 102-33.365 Must we report exchange/sale of parts to FAIRS?

No, you don't have to report exchange/sale of parts to FAIRS. However, you must report the transactions to GSA as part of your agency's annual report (see 41 CFR part 102-39 Subpart C—Exchange/Sale Methods and Reports).

Special Requirements for Disposing of Flight Safety Critical Aircraft Parts (FSCAP) and Life-Limited Parts

§ 102-33.370 What must we do to dispose of military FSCAP and/or life-limited parts?

To dispose of military FSCAP and/or life-limited parts, you must use the following tables:

(a) Table 1 for disposing of uninstalled FSCAP and/or life-limited parts follows:

Table 1 for Disposing of Uninstalled FSCAP and/or Life-Limited Parts
(1) If an Uninstalled FSCAP (i.e., not installed in an aircraft or engine)—
(i) Is documented— | Then | (A) You may exchange/sale it or transfer it to another executive agency under 41 CFR parts 102-36 and 102-39;
|  | (B) GSA may donate it for flight use under 41 CFR part 102-37 of this subchapter; or
|  | (C) GSA may donate it for ground use only, after you mutilate and mark it, “FSCAP—NOT AIRWORTHY” (the State Agency for Surplus Property must certify that the part has been mutilated and marked before donation).
(ii) Is undocumented, but traceable to its original equipment manufacturer (OEM) or production approval holder (PAH)— | Then | (A) You may exchange/sell it only to the OEM or PAH under 41 CFR part 102-39; (B) GSA may transfer or donate it for flight use, but only by making it a condition of the transfer or donation agreement that the recipient will have the part inspected, repaired, and certified by the OEM or PAH before putting it into service (Note: You must mark parts individually to ensure that the recipient is aware of the part's service status); or
|  | (C) GSA may donate it for ground use only, after you mutilate and mark it, “FSCAP—NOT AIRWORTHY” (the State Agency for Surplus Property must certify that the part has been mutilated and marked before donation).
(iii) Is undocumented and untraceable, you must mutilate it, and— | Then | (A) GSA may transfer or donate it for ground use only, after you mark it, “FSCAP—NOT AIRWORTHY” (the State Agency for Surplus Property must certify that the part has been mutilated and marked before donation); or
|  | (B) You may sell it only for scrap under §§ 102-33.310 and 102-33.315.
(2) If an uninstalled life-limited part (i.e., not installed in an aircraft or engine)—
(i) Is documented with service life remaining— | Then | (A) You may exchange/sale it or transfer it to another executive agency under 41 CFR parts 102-36 and 102-39; (B) GSA may donate it for flight use under 41 CFR part 102-37; or
|  | (C) GSA may donate it for ground use only, after you mutilate and mark it, “EXPIRED LIFE-LIMITED—NOT AIRWORTHY” (the State Agency for Surplus Property must certify that the part has been mutilated and marked before donation).
(ii) Is documented with no service life remaining, or undocumented, GSA may not transfer it to another executive agency for flight use— | But | (A) GSA may transfer or donate it for ground use only, after you mutilate and mark it, “EXPIRED LIFE-LIMITED—NOT AIRWORTHY” (the State Agency for Surplus Property must certify that the part has been mutilated and marked before donation); or (B) You must mutilate it and may sell it only for scrap.

(b) Table 2 for disposing of installed FSCAP and/or life-limited parts follows:

Table 2 for Disposing of Installed FSCAP and/or Life-Limited Parts
(1) If a FSCAP and/or life-limited part is installed in an aircraft or an engine, and it—
(i) Is documented with service life remaining— | Then | (A) You may exchange/sale the aircraft or engine, or GSA may transfer the aircraft or engine to another executive agency under 41 CFR parts 102-36 and 102-39;
|  | (B) GSA may donate the aircraft or engine for flight use or ground use.
(ii) Is documented with no service life remaining— | Then | (A) You must remove and mutilate the part before you exchange/sale the aircraft or engine (see rules for disposing of uninstalled life-limited parts in Table 1 of this section). (Note: If an aircraft or engine is exchanged/sold to its OEM or PAH, you do not have to remove the expired life-limited part);
|  | (B) You must remove and mutilate the part before GSA may transfer or donate the aircraft or engine for flight use (see the rules for disposing of uninstalled FSCAP in Table 1 of this section). (Note: An internal engine part may be left installed, if you identify the part individually to ensure that the receiving agency is aware of the part's service status and, as a condition of the transfer or donation agreement, the receiving agency agrees to remove and mutilate the part before the engine is put into service. You must certify mutilation for transfers, and the State Agency for Surplus Property must certify that the part has been mutilated for donations); or
|  | (C) GSA may donate the aircraft or engine for ground use only, after you remove the part, mutilate and mark it “EXPIRED LIFE-LIMITED—NOT AIRWORTHY.” (Note: An internal engine part may be left installed, if, as a condition of the donation agreement, the receiving agency agrees to remove and mutilate the part and mark it, and the State Agency for Surplus Property must certify that the part has been mutilated and marked).

§ 102-33.375 What is a FSCAP Criticality Code?

(a) A FSCAP Criticality Code is a code assigned by DOD to indicate the type of FSCAP: Code “F” indicates a standard FSCAP; Code “E” indicates a nuclear-hardened FSCAP.

(b) You must perpetuate a FSCAP Criticality Code on all property records and reports of excess. If the code is not annotated on the transfer document that you received when you acquired the part, you may contact the appropriate military service or query DOD's Federal Logistics Information System (FLIS) using the National Stock Number (NSN) or the part number (see http://www.dlis.dla.mil/webflis). For assistance in subscribing to the FLIS service, contact the WebFLIS Consumer Support Office, 1-877-352-2255.

Subpart E—Reporting Information on Government Aircraft

Overview

§ 102-33.380 Who must report information to GSA on Government aircraft?

You must report information to GSA on Government aircraft if your agency—

(a) Is an executive agency of the United States Government; and

(b) Owns, bails, borrows, loans, leases, rents, charters, or contracts for (or obtains by ISSA) Government aircraft.

§ 102-33.385 What Federally-funded aviation activities of executive agencies are exempt from the requirement to report information to GSA on Government aircraft?

The following Federally-funded activities are exempt from the requirement to report information to GSA on Government aircraft:

(a) The Armed Forces (which includes the U.S. Coast Guard); and

(b) Agencies in the Intelligence Community.

§ 102-33.390 What information must we report on Government aircraft?

You must report the following information to GSA (for information regarding how to report this information, see: https://gsa.inl.gov/fairs/):

(a) Inventory data on Federal aircraft, including your Unmanned Aircraft Systems (UAS), through FAIRS;

(b) Cost and utilization data on Federal aircraft, including your Unmanned Aircraft Systems (UAS), through FAIRS;

(c) Cost and utilization data on CAS aircraft and related aviation services (see definition of “Government aircraft” for more on CAS), through FAIRS;

(d) Accident and incident data (see § 102-33.445); and

(e) The results of standard competition studies in compliance with OMB Circular A-76 to justify purchasing, leasing, modernizing, replacing, or otherwise acquiring aircraft and related aviation services.

Federal Aviation Interactive Reporting System (FAIRS)

§ 102-33.395 What is FAIRS?

FAIRS is a management information system operated by GSA to collect, maintain, analyze, and report information on Federal aircraft inventories and cost and usage of Federal aircraft and CAS aircraft (and related aviation services). Users access FAIRS through a highly-secure Web site. The U.S. Government Aircraft Cost Accounting Guide (CAG) (see http://www.gsa.gov/aviationpolicy) contains the business rules for using the system.

§ 102-33.400 How must we report to FAIRS?

You must report to FAIRS electronically through a secure Web interface to the FAIRS application on the Internet. For additional information see https://gsa.inl.gov/fairs/.

§ 102-33.405 When must we report to FAIRS?

(a) You must report any changes in your Federal aircraft inventory within 14 calendar days of those changes.

(b) You must report cost and utilization data to FAIRS at the end of every quarter of the fiscal year (December 31, March 31, June 30, and September 30). However, you may submit your information to FAIRS on a daily, weekly, or monthly basis. To provide enough time to calculate your cost and utilization data, you may report any one quarter's cost and utilization in the following quarter, as follows:

Quarter | Submit
QTR 1—October 1-December 31 | Federal inventory for QTR 1.
| Federal cost and utilization for previous QTR 4.
| CAS cost and utilization for previous QTR 4.
QTR 2—January 1-March 31 | Federal inventory for QTR 2.
| Federal cost and utilization for QTR 1.
| CAS cost and utilization for QTR 1.
QTR 3—April 1-June 30 | Federal inventory for QTR 3.
| Federal cost and utilization for QTR 2.
| CAS cost and utilization for QTR 2.
QTR 4—July 1-September 30 | Federal inventory for QTR 4.
| Federal cost and utilization for QTR 3.
| CAS cost and utilization for QTR 3.

Federal Inventory Data

§ 102-33.410 What are Federal inventory data?

Federal inventory data includes:

(a) Information on each of the operational and non-operational Federal aircraft that you own, bail, borrow, or loan; and

(b) UAS as described in § 102-33.20.

§ 102-33.415 When may we declassify a Federal aircraft and remove it from our Federal aircraft inventory?

When an aircraft is lost or destroyed, or is otherwise non-operational and you want to retain it, you may declassify it and remove it from your Federal aircraft inventory. For further details, see §§ 102-33.250 and 102-33.420. See §§ 102-33.265 and 102-33.270 for reporting excess Federal aircraft.

§ 102-33.420 How must we declassify a Federal aircraft?

To declassify a Federal aircraft, you must—

(a) Send a letter to the Deputy Associate Administrator, Office of Asset and Transportation Management, Office of Government-wide Policy, General Services Administration, 1800 F St. NW., Washington, DC 20405, that requests approval to declassify the aircraft and states that the aircraft is non-operational (which includes lost or destroyed). In this letter you must—

(1) Identify the Federal Supply Classification (FSC) group(s) that the declassified aircraft/parts will fall under, if applicable;

(2) Describe the condition of the aircraft (crash-damaged, unrecoverable, parts unavailable, etc.); and

(3) Include photographs as appropriate.

(b) Within 14 calendar days of receiving GSA's approval to declassify the aircraft, following 14 CFR 45.13, request approval from your local FAA Flight Standards District Office (FSDO) to remove the manufacturer's data plate;

(c) Within 14 calendar days of receiving approval from FAA to remove the data plate, inform GSA of FAA's approval, send the data plate by courier or registered mail to the FAA, as directed by your FSDO, and remove the certificate of airworthiness and the aircraft's registration form from the aircraft, complete the reverse side of the registration form, and send both documents to The FAA Aircraft Registration Branch, P.O. Box 25504, Oklahoma City, OK 73125-0504; and

(d) Update the FAIRS inventory record to reflect disposal status and update your personal property records, deleting the declassified aircraft from the aircraft category and adding it to another Federal Supply Classification group or groups, as appropriate.

Federal Aircraft Cost and Utilization Data

§ 102-33.425 What Federal aircraft cost and utilization data must we report?

You must report certain costs for each of your Federal aircraft (including your UAS) and the number of hours that you flew each aircraft. In reporting the costs of your Federal aircraft, you must report both the amounts you paid as Federal costs, which are for services the Government provides, and the amounts you paid for commercial aviation services (CAS) in support of your Federal aviation program. For a list and definitions of the Federal aircraft cost and utilization data elements, see the U.S. Government Aircraft Cost Accounting Guide (CAG), which is available at http://www.gsa.gov/aviationpolicy.

§ 102-33.430 Who must report Federal aircraft cost and utilization data?

(a) Executive agencies, except the Armed Forces and agencies in the Intelligence Community, must report Federal cost and utilization data on all Federal aircraft; and

(b) Agencies should report Federal cost and utilization data for loaned aircraft only if Federal money was expended on the aircraft.

Commercial Aviation Services (CAS) Cost and Utilization Data

§ 102-33.435 What CAS cost and utilization data must we report?

You must report:

(a) The costs and flying hours for each CAS aircraft you hire;

(b) The costs and contractual periods for related aviation services that you hire (by contract or through an Inter-service support agreement (ISSA)).

Note to § 102-33.435: You should not report related aviation services that you hire commercially in support of Federal aircraft. “Federal” aircraft are by definition owned aircraft. The agency that owns the aircraft is responsible for capturing all cost and utilization data and is required to report this data in GSA's FAIRS. See the U.S. Government Aircraft Cost Accounting Guide (CAG), which is available from GSA at http://www.gsa.gov/aviationpolicy.

§ 102-33.440 Who must report CAS cost and utilization data?

Executive agencies, except the Armed Forces and agencies in the Intelligence Community, must report CAS cost and utilization data. You must report CAS cost and utilization data if your agency makes payments to—

(a) Charter or rent aircraft;

(b) Lease or lease-purchase aircraft;

(c) Hire aircraft and related services through an ISSA or a full service contract; or

(d) Obtain related aviation services through an ISSA or by contract except when you use the services in support of Federal aircraft (see the Note at § 102-33.435).

Accident and Incident Data

§ 102-33.445 What accident and incident data must we report?

You must report within 14 calendar days to GSA, Aviation Policy Division, 1800 F St. NW., Washington, DC 20405, all aviation accidents and incidents that your agency is required to report to the NTSB. You may also report other incident information. GSA and the ICAP will use the collected accident/incident information in conjunction with FAIRS' data, such as flying hours and missions, to calculate aviation safety statistics for the Federal aviation community and to share safety lessons-learned.

§ 102-33.450 How must we report accident and incident data?

You must report accident and incident data to GSA at http://www.gsa.gov/aviationpolicy or call GSA's Aviation Policy Division and report the accident or incident telephonically.

Common Aviation Management Information Standard (C-AMIS)

§ 102-33.455 What is C-AMIS?

The Common Aviation Management Information Standard (C-AMIS) is a guide to assist agencies in developing or modernizing their internal aviation management information systems. C-AMIS includes standard specifications and data definitions related to Federal aviation operations. C-AMIS is jointly written by the ICAP and GSA and available from GSA's Aviation Policy Division.

§ 102-33.460 What is our responsibility in relation to C-AMIS?

If you use a management information system to provide data to FAIRS by batch upload, you are responsible for ensuring that your system is C-AMIS-compliant (see § 102-33.195). For more information on compliance with C-AMIS, contact GSA's Aviation Policy Division at (202) 208-0519 or (202) 997-7274.

Performance Indicators

§ 102-33.465 What is a performance indicator?

In addition to the definition in § 102-33.20, a performance indicator provides information (either qualitative or quantitative) on the extent to which the actual outcome of a policy, program, or initiative achieves the planned outcome.

§ 102-33.470 Must we develop performance indicators?

Yes, your agency must develop performance indicators in order to measure the degree to which key aviation program objectives are achieved. It is suggested that your performance indicators:

(a) Measure the contribution of the aviation program toward the accomplishment of the agency's mission;

(b) Support and justify aviation program budget requests; and

(c) Demonstrate the effectiveness and efficiency of the aviation program's performance.

§ 102-33.475 What are some examples of performance indicators that an agency can use?

Examples of performance indicators include, but are not limited to, a percentage increase or decrease:

(a) Of operations scheduling effectiveness;

(b) Of repeat system discrepancies over a specific period of time;

(c) In logistical response time for returned parts processing over a specified period of time;

(d) In lost man-hours due to personnel injuries;

(e) In aircraft turn-around time;

(f) In fuel expenditures for a given mission, location, or type/model/series of aircraft;

(g) In aircraft availability or non-availability rates;

(h) In full-mission-capable aircraft over a specific time period;

(i) In non-airworthy maintenance;

(j) In maintenance costs per flying hour; or

(k) In variable cost per passenger mile.

Appendix A to Part 102-33—Disclosure Statement for Crewmembers and Qualified Non-Crewmembers Flying on Board Government Aircraft Operated as Public Aircraft

Generally, an aircraft used exclusively for the U.S. Government may be considered a “public aircraft” as defined by Public Law 106-181 and 14 CFR Chapter I, provided it is not a Government-owned aircraft transporting passengers or operating for commercial purposes. A public aircraft is not subject to many Federal Aviation Regulations, including requirements relating to aircraft certification, maintenance, and pilot certification. If the aircraft does not qualify as a “public aircraft”, then it is a civil aircraft and must comply with all Federal Aviation Regulations applicable to civil aircraft. If you have any questions concerning whether a particular flight will be a public aircraft operation or a civil aircraft operation, you should contact the agency sponsor of that flight.

Rights and Benefits

You have certain rights and benefits in the unlikely event you are injured or killed while working aboard a Government-owned or operated aircraft. Federal employees and some private citizens are eligible for workers' compensation benefits under the Federal Employees' Compensation Act (FECA). When FECA applies, it is the sole remedy. For more information about FECA and its coverage, consult with your agency's benefits office or contact the Branch of Technical Assistance at the Department of Labor's Office of Workers' Compensation Programs.

State or Foreign Laws

State or foreign laws may provide for product liability or “third party” causes of actions for personal injury or wrongful death. If you have questions about a particular case or believe you have a claim, you should consult with an attorney.

Insurance Policies

Some insurance policies may exclude coverage for injuries or death sustained while working or traveling aboard a Government or military aircraft or while within a combat area. You may wish to check your policy or consult with your insurance provider before your flight. The insurance available to Federal employees through the Federal Employees Group Life Insurance Program does not contain an exclusion of this type.

Victim Rights

If you are the victim of an air disaster resulting from criminal activity, Victim and Witness Specialists from the Federal Bureau of Investigation (FBI) and/or the local U.S. Attorney's Office will keep you or your family informed about the status of the criminal investigation(s) and provide you or your family with information about rights and services, such as crisis intervention, counseling and emotional support. State crime victim compensation may be able to cover crime-related expenses, such as medical costs, mental health counseling, funeral and burial costs, and lost wages or loss of support. The Office for Victims of Crime (an agency of the Department of Justice) and the U.S. Attorneys Office are authorized by the Antiterrorism Act of 1996 to provide emergency financial assistance to State programs for the benefit of victims of terrorist acts or mass violence.

Federal Employee

If you are injured or killed on the job during the performance of duty, including while traveling or working aboard a Government aircraft or other Government-owned or operated conveyance for official Government business purposes, you and your family are eligible to collect workers' compensation benefits under FECA. You and your family may not file a personal injury or wrongful death suit against the United States or its employees. However, you may have cause of action against potentially liable third parties.

Family Member

You or your qualifying family member must normally also choose between FECA disability or death benefits, and those payable under your retirement system (either the Civil Service Retirement System or the Federal Employees Retirement System). You may choose the benefit that is more favorable to you.

Private Citizen

Even if the Federal Government does not regularly employ you, if you are rendering personal service to the Federal Government on a voluntary basis or for nominal pay, you may be defined as a Federal employee for purposes of FECA. If that is the case, you and your family are eligible to receive workers' compensation benefits under FECA, but may not collect in a personal injury or wrongful death lawsuit against the United States or its employees. You and your family may file suit against potentially liable third parties. Before you board a Government aircraft, you may wish to consult with the department or agency sponsoring the flight to clarify whether you are considered a Federal employee.

If the agency determines that you are not a “Federal employee,” you and your family will not be eligible to receive workers' compensation benefits under FECA. If you are onboard the aircraft for purposes of official Government business, you may be eligible for workers' compensation benefits under state law. If an accident occurs within the United States, or its territories, its airspace, or over the high seas, you and your family may claim against the United States under the Federal Tort Claims Act or Suits in Admiralty Act. If you are killed aboard a military aircraft, your family may be eligible to receive compensation under the Military Claims Act, or if you are an inhabitant of a foreign country, under the Foreign Claims Act.

Note to Appendix A to part 102-33: This disclosure statement is not all-inclusive. You should contact your agency's personnel office, or if you are a private citizen, your agency sponsor or point-of-contact for further assistance.

[FR Doc. 2014-29847 Filed 12-22-14; 8:45 am]

BILLING CODE 6820-14-P